Title 3—

The President

Executive Order 13523—Half-Day Closing of Executive Departments and Agencies on Thursday, December 24, 2009

Correction

In Presidential document E9-30020 beginning on page 66563 in the issue of Wednesday, December 16, 2009, make the following correction:

On page 66563, the Executive Order number and date line should read “Executive Order 13523 of December 11, 2009”.

[FR Doc. Z9-30020

Filed 12-17-09; 8:45 am]

Billing Code 1505-01-D